DEPARTMENT OF COMMERCE

National Oceanic and Atmospheric Administration

[Docket No. 050906238-5238-01; ID 090705E]

RIN 0648-ZB68

2006 Monkfish Research Set-aside Program

AGENCY: National Marine Fisheries Service (NMFS), National Oceanic and Atmospheric Administration (NOAA), Commerce.

ACTION: Notice; solicitation of proposals for research activities.

SUMMARY: NMFS announces that the New England and Mid-Atlantic Fishery Management Councils (Councils) have set aside 500 monkfish days-at-sea (DAS) to be used for research endeavors under a research set-aside (RSA) program. NMFS is soliciting proposals to utilize the DAS for research activities concerning the monkfish fishery for fishing year 2006 (May 1, 2006-April 30, 2007). Through the allocation of research DAS, the Monkfish RSA Program provides a mechanism to reduce the cost for vessel owners to participate in cooperative monkfish research. The intent of this RSA program is for fishing vessels to utilize these research DAS to conduct monkfish related research, rather than their allocated monkfish DAS, thereby eliminating any cost to the vessel associated with using a monkfish DAS.

DATES: Applications must be received on or before 5 p.m. eastern standard time on October 13, 2005. Delays may be experienced when registering with Grants.gov near the end of a solicitation period. Therefore, NOAA strongly recommends that applicants do not wait until the deadline date to begin the application process through http://www.grants.gov.

ADDRESSES: Electronic application submissions must be transmitted on-line through http://www.grants.gov. Applications submitted through http://www.grants.gov will be accompanied by a date and time receipt indication on them. If an applicant does not have Internet access, hard copy proposals will be accepted, and date recorded when they are received in the program office. Paper applications must be sent to NMFS, Northeast Regional Office, One Blackburn Drive, Gloucester, MA 01930. Electronic or hard copies received after the deadline will not be considered, and hard copy applications will be returned to the sender.

FOR FURTHER INFORMATION CONTACT: Information may be obtained from Paul Howard, Executive Director, New England Fishery Management Council (NEFMC), by phone 978-465-0492, or by fax 978-465-3116; Philip Haring, Senior Fishery Analyst, NEFMC, by phone 978-465-0492, or by email at pharing@nefmc.org; or Allison Ferreira, Fishery Policy Analyst, NMFS, by phone 978-281-9103, by fax 978-281-9135, or by e-mail at allison.ferreira@noaa.gov.

SUPPLEMENTARY INFORMATION:

Electronic Access

Application information is available at http://www.grants.gov. Electronic copies of the Standard Forms for submission of research proposals may be found on the Internet in a PDF (Portable Document Format) version at http://www.ago.noaa.gov/grants/appkit.shtml under the title “Grants Management Division-Application Kit.” Applicants without Internet access can contact Rich Maney, NMFS, Northeast Regional Office, One Blackburn Drive, Gloucester, MA 01930, by phone 978-281-9265, by fax 978-281-9117, or by email at rich.maney@noaa.gov.

To apply for this NOAA Federal funding opportunity, please go to http://www.grants.gov, and use the following funding opportunity # NMFS-NERO-2006-2000372.

Background

Landings from such research trips may be sold to generate funds to help defray research costs. No Federal funds are provided for research under this notification. Rather, projects funded under the Monkfish RSA Program would be provided with additional opportunity to harvest monkfish, and the catch sold to generate income to offset research costs. Projects funded under an RSA DAS award must enhance the knowledge of the monkfish fishery resource or contribute to the body of information on which management decisions are made. The Councils and NMFS will give priority to funding research proposals in the following general subject areas: (1) Research concerning monkfish bycatch and discards; (2) research to minimize bycatch and interactions with sea turtles and other protected species; (3) research to minimize impacts of monkfish fishery on essential fish habitat (EFH), or other sensitive habitats; (4) research to establish an exempted monkfish trawl fishery in the Northern Fishery Management Area; (5) research on the biology or population structure and dynamics of monkfish; (6) tagging studies; (7) mesh and gear selectivity studies, including studies on gear efficiency; and (8) cooperative stock assessment surveys. Please note that the research subject areas listed above are not listed in order of priority.

Funding Availability

No Federal funds are provided for research under this notification. Rather, 500 DAS (approximating 519 metric tons of whole monkfish landings) will be set aside for projects under the Monkfish RSA Program. This will provided additional opportunity to harvest monkfish, and to sell the additional catch to generate income to offset research costs. Projects funded under an RSA DAS award must enhance the knowledge of the monkfish fishery resource or contribute to the body of information on which management decisions are made. The Federal Government (i.e., NMFS) may issue an Exempted Fishing Permit (EFP), if needed, to provide special fishing privileges in response to research proposals selected under this program. For example, vessels participating in an approved research project may be authorized by the Northeast Regional Administrator, NMFS, to harvest monkfish in excess of established possession limits. Because this is the first year of the Monkfish RSA Program, information on the number of awards issued in previous fishing years, and the income generated from those awards, is not available.

Funds generated from landings harvested and sold under the Monkfish RSA Program shall be used to cover the cost of research activities, including vessel costs. For example, the funds may be used to pay for gear modifications, monitoring equipment, the salaries of research personnel, or vessel operation costs. The Federal Government shall not be liable for any costs incurred in the conduct of the project. Specifically, the Federal Government is not liable for any costs incurred by the researcher or vessel owner should the sale of catch not fully reimburse the researcher or vessel owner for his/her expenses.

Statutory Authority

Issuing grants is consistent with sections 303(b)(11), 402(e), and 404(c) of the Magnuson-Stevens Fishery Conservation and Management Act, 16 U.S.C. 1853(b)(11), 16 U.S.C. 1881a(e), and 16 U.S.C. 1881(c), respectively.

The ability to set aside monkfish DAS for research purposes was established in the final rule implementing Amendment 2 to the Monkfish Fishery Management Plan (70 FR 21927, April 28, 2005), and codified in the regulations at 50 CFR 648.92(c).

CFDA Number

In the Catalog of Federal Domestic Assistance, the program number is 11.454, and the program name is Unallied Management Projects.

Eligibility

1. Eligible applicants include, but are not limited to, institutions of higher education, hospitals, other nonprofits, commercial organizations, individuals, state, local, and Native American tribal governments. Federal agencies and institutions are not eligible to receive Federal assistance under this notice. Additionally, employees of any Federal agency or Regional Fishery Management Council (Council) are ineligible to submit an application under this program. However, Council members who are not Federal employees may submit an application.

2. DOC/NOAA supports cultural and gender diversity and encourages women and minority individuals and groups to submit applications to the RSA program. In addition, DOC/NOAA is strongly committed to broadening the participation of historically black colleges and universities, Hispanic serving institutions, tribal colleges and universities, and institutions that work in under served areas. DOC/NOAA encourages proposals involving any of the above institutions.

3. DOC/NOAA encourages applications from members of the fishing community and applications that involve fishing community cooperation and participation.

Cost Sharing Requirements

None required.

Evaluation and Selection Procedures

NMFS will solicit written technical evaluations from the Council members who make up the Monkfish Research Set-Aside Committee (Committee) and from up to three or more appropriate private and public sector experts to determine the technical merit of the proposal and to provide a rank score of the project based on the criteria described in the Evaluation Criteria section of this document. Following completion of the technical evaluation, NMFS will convene a review panel, including the Committee and technical experts, to review and individually critique the scored proposals to enhance NOAA's understanding of the proposals. Initial successful applicants may be required, in consultation with NMFS, to further refine/modify the study methodology as a condition of project approval. No consensus recommendations will be made by the Committee members, technical experts, or by the review panel.

Evaluation Criteria

1. Importance and/or relevance of the proposed project: This criterion ascertains whether there is intrinsic value in the proposed work and/or relevance to NOAA, Federal, regional, state or local activities. (25 points)

2. Technical/scientific merit: This criterion assesses whether the approach is technically sound and/or innovative, if the methods are appropriate, and whether there are clear project goals and objectives. (25 points)

3. Overall qualifications of the project: This criterion assesses whether the applicant, and team members, possess the necessary education, experience, training, facilities and administrative resources to accomplish the project. (15 points)

4. Project costs: This criterion evaluates the budget to determine if it is realistic and commensurate with the project needs and time frame. (25 points)

5. Outreach and education: This criterion assesses whether the project involves a focused and effective education and outreach strategy regarding NOAA's mission to protect the Nation's natural resources. (10 points)

The merit review ratings shall provide a rank order to the Selecting Official (the Northeast Regional Administrator) for final funding recommendations. A program officer may first make recommendations to the Selecting Official applying the selection factors. The Selecting Official shall award in the rank order unless the proposal is justified to be selected out of rank order based upon one or more of the following factors:

1. Availability of funding.

2. Balance/distribution of funds:

a. Geographically

b. By type of institutions

c. By type of partners

d. By research areas

e. By project types

3. Whether this project duplicates other projects funded or considered for funding by NOAA or other Federal agencies.

4. Program priorities and policy factors.

5. Applicant's prior award performance.

6. Partnerships and/or Participation of targeted groups.

7. Adequacy of information necessary to conduct a National Environmental Policy Act (NEPA) analysis and determination.

Key program policy factors (see item 4 above) to be considered by the Selecting Official are: (1) the time of year the research activities are to be conducted; (2) the ability of the proposal to meet the applicable experimental fishing requirements; (3) redundancy of research projects; and (4) logistical concerns. Therefore, the highest scoring projects may not necessarily be selected for an award. All approved research must be conducted in accordance with provisions approved by NOAA, and provided in an EFP issued by NMFS. Unsuccessful applications will be returned to the submitter. Successful applications will be incorporated into the award document.

For proposals that request exemptions from existing regulations (e.g., possession limits, closed areas, etc.), the impacts of the proposed exemptions must be analyzed. Any applicants who request regulatory exemptions that extend beyond the 500 DAS set-aside implemented in Amendment 2 may be required to adhere to the regulations governing the issuance of an EFP by NMFS. As appropriate, NMFS will consult with the Councils and successful applicants to secure the information required for granting an exemption if issuance of an EFP is necessary for the research to be conducted. No research or usage of research DAS will be allowed until NMFS notifies the applicant that the applicant's EFP request is approved.

NEPA Requirements

NOAA must analyze the potential environmental impacts, as required by NEPA, for applicant projects or proposals which are seeking NOAA Federal assistance opportunities, including special fishing privileges. Detailed information on NOAA compliance with NEPA can be found at the following NOAA NEPA website: http://www.nepa.noaa.gov, including our NOAA Administrative Order 216-6 for NEPA, http://www.nepa.noaa.gov/NAO216_6_TOC.pdf, and the Council on Environmental Quality implementation regulations, http://ceq.eh.doe.gov/nepa/regs/ceq/toc_ceq.htm.

Consequently, as part of an applicant's package, and under the description of program activities, applicants are required to provide detailed information on the activities to be conducted, locations, sites, species, and habitat to be affected, possible construction activities, and any environmental concerns that may exist (e.g., the use and disposal of hazardous or toxic chemicals, introduction of non-indigenous species, impacts to endangered and threatened species, aquaculture projects, and impacts to coral reef systems). The impacts of the 500 DAS set-aside were analyzed in the Final Supplemental Impact Statement prepared for Amendment 2. Therefore, if the applicant does not request additional regulatory exemptions beyond the use of research DAS, additional NEPA analysis may not be required. However, if the research proposal requests exemptions from regulations that extend beyond the 500 DAS set-aside, applicants may be required to provide additional specific information that will serve as the basis for any required impact analyses. Applicants may also be requested to assist NOAA in drafting an environmental assessment if NOAA determines such an assessment is required. Applicants will also be required to cooperate with NOAA in identifying and implementing feasible measures to reduce or avoid any identified adverse environmental impacts associated with their proposed research activity. The failure to do so shall be grounds for the denial of an application.

Pre-Award Notification Requirements for Grants and Cooperative Agreements

The Department of Commerce Pre-Award Notification Requirements for Grants and Cooperative Agreements contained in the Federal Register notice of December 30, 2004 (69 FR 78389), are applicable to this solicitation.

Reporting Requirements

Recipients will be required to submit the following financial and performance (technical) reports. These reports are to be submitted electronically unless the recipient does not have Internet access, in which case hard copy submissions will be accepted. Financial Status Reports (SF-269 and SF-272) are required to be submitted to the Grants Officer semi-annually. Performance or progress reports are required to be submitted to the NOAA Program Officer semi-annually. The final report is due 90 days after the award expiration.

Universal Identifier

Applicants should be aware that they are required to provide a Dun and Bradstreet Data Universal Numbering System (DUNS) number during the application process. See the October 30, 2002 (67 FR 66177), Federal Register for additional information. Organizations can receive a DUNS number at no cost by calling the dedicated toll-free DUNS Number request line at 1-866-705-5711 or via the internet (http://www.dunandbradstreet.com).

Executive Order 12372

Applications under this program are subject to Executive Order 12372 “Intergovernmental Review of Federal Programs.”

Limitation of Liability

Funding for programs listed in this notice is contingent upon the availability of Fishing Year 2005 Monkfish RSA DAS. In no event will NOAA or DOC be responsible for application preparation costs if these programs fail to receive a DAS award or are cancelled because of other agency priorities. Publication of this announcement does not oblige NOAA to award any specific project or to obligate any available funds. The Department of Commerce Pre-Award Notification Requirements for Grants and Cooperative Agreements contained in the Federal Register notice of December 30, 2004 (69 FR 78389), are applicable to this solicitation.

Paperwork Reduction Act (PRA)

This document contains collection-of-information requirements subject to the PRA. The use of Standard Forms 424, 424A, 424B, SF-LLL, 269, 272, and CD-346 has been approved by the Office of Management and Budget (OMB) under the respective control numbers 0348-0043, 0348-0044, 0348-0040, 0348-0046, 0348-0039, 0348-0003, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) do not apply. Therefore, a regulatory flexibility analysis has not been prepared.

Dated: September 7, 2005.
James W. Balsiger,
Acting Deputy Assistant Administrator for Regulatory Programs, National Marine Fisheries Service.

[FR Doc. 05-18087 Filed 9-12-05; 8:45 am]

BILLING CODE 3510-22-S